DEPARTMENT OF HOUSING AND URBAN DEVELOPMENT

[Docket No. FR-5130-N-01]

Privacy Act of 1974; New System of Records, Audit Resolution and Corrective Action Tracking System, HUD/CFO-02

AGENCY: Office of the Chief Information Officer, HUD.

ACTION: Establish a new privacy act system of records.

SUMMARY: HUD proposes to establish a new record system to add to its inventory of systems of records subject to the Privacy Act of 1974 (5 U.S.C. 552a), as amended. The proposed new system of records identified as HUD/CFO-02, entitled Audit Resolution and Corrective Action Tracking System (ARCATS, P136) will be used by the HUD to track and monitor Audits and Recommendations issued by the Office of the Inspector General (OIG) and the Government Accountability Office (GAO), and will reflect the disposition of funds granted, loaned, or administered for key Audits resolutions for the Department.

DATES: Effective Date: This action will be effective without further notice on March 5, 2007 unless comments are received that would result in a contrary determination.

Comments Due Date: March 5, 2007.

ADDRESSES: Interested persons are invited to submit comments regarding this new system of records to the Rules Docket Clerk, Office of General Counsel, Department of Housing and Urban Development, 451 Seventh Street, SW., Room 10276, Washington, DC 20410-0500. Communications should refer to the above docket number and title. Facsimile (FAX) comments are not acceptable. A copy of each communication submitted will be available for public inspection and copying between 8 a.m. and 5 p.m. weekdays at the above address.

FOR FURTHER INFORMATION CONTACT: Jeanette Smith, Departmental Privacy Act Officer, telephone number (202) 708-2374, or Gail B. Dise, Assistant Chief Financial Officer for Systems, telephone number (202) 708-0614, x3749. (These are not toll free numbers.)

SUPPLEMENTARY INFORMATION: Title 5 U.S.C. 552a(e) (4) and (11) provide that the public be afforded a 30-day period in which to comment on the new record system.

The new system report, as required by 5 U.S.C. 552a(r) of the Privacy Act was submitted to the Committee on Governmental Affairs of the United States Senate, the Committee on Government Reform and Oversight of the House of Representatives, and the Office of Management and Budget (OMB) pursuant to paragraph 4c of Appendix I to OMB Circular No. A-130, Federal Agency Responsibilities for Maintaining Records About Individuals, dated June 25, 1993 (58 FR 36075, July 2, 1993).

Authority: 5 U.S.C. 552a.

Dated: January 26, 2007.
Lisa Schlosser,
Chief Information Officer.

HUD/CFO-02

System name:

Audit Resolution and Corrective Action Tracking System (ARCATS-P136)

System location:

HUD Headquarters and field offices.

Categories of individuals covered by the system:

HUD Headquarters, Office of the Inspector General (OIG) and Field Office Personnel; subjects of audits.

Categories of records in the system:

Name, social security number, date of birth, education, financial transactions, medical history, and criminal or employment history.

Authority for maintenance of the system:

Federal Managers Financial Integrity Act of 1982 (Pub. L. 97-255, HR 1526); Sec. 113 of the Accounting and Auditing Act of 1950 (31 U.S.C. 66a)

Purpose(s):

The purpose of the system of records is audit resolution.

Routine users are as follows:

In addition to those disclosures generally permitted under 5 U.S.C. 552a(b) of the Privacy Act, other routine uses are as follows:

(a) To the HUD OIG—to facilitate audit resolution and U.S. Treasury—for disbursements and adjustments thereof;

(b) To designated HUD users—to facilitate audit resolution.

Disclosure to consumer reporting agencies:

N/A. This is simply a tracking system used to facilitate audit resolution.

Policies and practices for storing, retrieving, accessing, retaining, and disposing of records in the system:

Storage:

Records are stored on electronic files or magnetic tape/disc/drum.

Retrievability:

Records may be retrieved by clicking on Document Link which opens document containing the personally identifiable information.

Safeguards employed include:

Background screening, limited authorizations and access, security guards; computer records are maintained in secure areas with access limited to authorized personnel and technical restraints employed with regard to accessing the records; access to automated systems by authorized users by passwords and code identification cards.

Retention and disposal

Are in accordance with GSA schedules of retention and disposal.

System Manager(s)and address: Assistant Chief Financial Officer for Systems, Office of the Chief Financial Officer, Department of Housing and Urban Development, 451 Seventh Street, SW., Washington, DC 20410.

Notification and Record Access Procedures:

Individuals seeking to determine whether this system of record contains information about them, or those seeking access to such records, should address inquiries to the Assistant Chief Financial Office Systems, Office of the Chief Financial Officer, 451 Seventh Street, SW., Washington, DC 20410.

Contesting record procedures:

The procedures for requesting amendment or correction of records appear in 24 CFR part 16. If additional information or assistance is required, contact the Privacy Act Appeals Officer, Office of General Counsel, Department of Housing and Urban Development, 451 Seventh Street, SW., Washington, DC 20410

Record source categories:

Subject individuals; other individuals; financial institutions, private corporations or firms doing business with HUD; Federal and non-Federal Governmental agencies; HUD personnel.

Exemptions from certain provisions of the Act:

None.

[FR Doc. E7-1752 Filed 2-1-07; 8:45 am]

BILLING CODE 4210-67-P